FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov.)

Agreement No.: 011275-022.

Title: Australia/United States Discussion Agreement.

Parties: A.P. Moller-Maersk A/S; Hamburg-Süd Safmarine Container Lines NV; and Hapag-Lloyd AG.

Filing Party: Wayne R. Rohde, Esq.; Sher & Blackwell LLP; 1850 M Street, NW.; Suite 900; Washington, DC 20036.

Synopsis: The amendment expands the geographic scope to include New Zealand, and renames and restates the agreement. It also adds authority to discuss rationalization of services; to discuss and agree on liability, bill of lading, equipment, and various other matters; to agree with forwarders and brokers on compensation; to discuss the costs of service and related matters; and to discuss the Australia and New Zealand trade together or separately.

Agreement No.: 011733-019.

Title: Common Ocean Carrier Platform Agreement.

Parties: A.P. Moller-Maersk A/S; CMA CGM; Hamburg-Süd; Hapag-Lloyd AG; Mediterranean Shipping Company S.A.; and United Arab Shipping Company (S.A.G.) as shareholder parties, and Alianca Navegacao e Logistica Ltda.; Kawasaki Kisen Kaisha Ltd.; MISC Berhad; Mitsui O.S.K. lines Ltd.; Nippon Yusen Kaisha; Safmarine Container Lines N.V.; Senator Lines GmbH; Compania Sud Americana de Vapores, S.A.; Companhia Libra Navegacao; Norasia Container Lines Limited; MISC Berhad; and Tasman Orient Line C.V. as non-shareholder parties.

Filing Party: Mark J. Fink, Esq.; Sher & Blackwell LLP; 1850 M Street, NW.; Suite 900; Washington, DC 20036.

Synopsis: The amendment adds Hyundai Merchant Marine, Co., Ltd. as a party.

Agreement No.: 011756-003.

Title: New World Alliance/Evergreen Slot Exchange Agreement.

Parties: APL Co. Pte. Ltd. and American President Lines, Ltd.; Mitsui O.S.K. Lines, Ltd.; Hyundai Merchant Marine Co., Ltd.; and Evergreen Marine Corp. (Taiwan) Ltd.

Filing Party: Eliot J. Halperin, Esq.; Manelli, Denison & Selter PLLC; 2000 M Street, NW.; 7th Floor; Washington, DC 20036.

Synopsis: The amendment updates the agreement to accommodate changes in the services of the New World Alliance and the newly executed New World Alliance Agreement.

Agreement No.: 011942-001.

Title: CMA-CGM/CSCL Cross Space Charter, Sailing and Cooperative Working Agreement—Far East/US Gulf Loop, PEX2/PEX3/AAE2 Service.

Parties: CMA-CGM, S.A.; China Shipping Container Lines Co., Ltd.; and China Shipping Container Lines (Hong Kong) Co., Ltd.

Filing Party: Paul M. Keane, Esq.; Cichanowicz, Callan, Keane, Vengrow & Textor LLP; 61 Broadway; Suite 3000; New York, NY 10006-2802.

Synopsis: The amendment deletes the U.S. Atlantic Coast from the geographic scope, adds a CMA service string to the agreement, and renames and restates the agreement.

Agreement No.: 011969-001.

Title: Zim/Italia Marittima Agreement.

Parties: Zim Integrated Shipping Services, Ltd. and Italia Marittima S.p.A.

Filing Party: Wayne R. Rohde, Esq.; Sher & Blackwell LLP; 1850 M Street, NW.; Suite 900; Washington, DC 20036.

Synopsis: The amendment adjusts the space allocations in the agreement.

By Order of the Federal Maritime Commission.
Dated: January 12, 2007.
Bryant L. VanBrakle,
Secretary.

[FR Doc. E7-627 Filed 1-17-07; 8:45 am]

BILLING CODE 6730-01-P